DEPARTMENT OF ENERGY

Federal Energy Regulatory Commission

Notice Announcing Filing Priority for Preliminary Permit Applications

Lock+ Hydro Friends Fund XXX, LLC | Project No. 13625-003
FFP Project 121, LLC | Project No. 14504-000

On August 21, 2013, the Commission held a drawing to determine priority between competing preliminary permit applications with identical filing times. In the event that the Commission concludes that neither of the applicants' plans is better adapted than the other to develop, conserve, and utilize in the public interest the water resources of the region at issue, the priority established by this drawing will serve as the tiebreaker. Based on the drawing, the order of priority is as follows:

1. FFP Project 121, LLC Project No. 14504-000

2. Lock+ Hydro Friends Fund XXX, LLC Project No. 13625-003

Dated: August 22, 2013.
Nathaniel J. Davis, Sr.,
Deputy Secretary.

[FR Doc. 2013-21057 Filed 8-28-13; 8:45 am]

BILLING CODE 6717-01-P